DEPARTMENT OF HEALTH AND HUMAN SERVICES

Centers for Disease Control and Prevention

[Program Announcement 04107]

Research Study To Assess the Risk of Blood Borne Transmission of Classic or Variant Creutzfeldt-Jakob Disease; Notice of Intent To Fund Single Eligibility Award

A. Purpose

The Centers for Disease Control and Prevention (CDC) announces the intent to fund fiscal year (FY) 2004 funds for a cooperative agreement program to continue an active, nationwide study begun in 1995 of recipients of blood products from primarily classic or possibly variant CJD. The Catalog of Federal Domestic Assistance number for this program is 93.283.

B. Eligible Applicant

Assistance will be provided only to the American Red Cross (ARC). The ARC, because of its earlier participation in the CJD Investigational Lookback Study, has unique possession of the personal identifiers of at least 95 living recipients of blood components from reported donors who subsequently developed CJD. The ARC is the only organization that has the complete relevant information on 237 such recipients who are now deceased.

In addition, the ARC has the personal identifiers on at least 25 donor cases of CJD for which recipient reports have been collected. It is this existing data that are critical to the strength of the statistical power and success of this project.

Further, the ARC is the only organization that has the professional affiliations already in place that will permit reasonable generalizations of the findings of this study to the entire nation.

C. Funding

Approximately $80,000 is available in FY 2004 to fund this award. It is expected that the award will begin on or before May 30, 2004, and will be made for a 12-month budget period within a project period of up to five years. Funding estimates may change.

D. Where To Obtain Additional Information

For general comments or questions about this announcement, contact: Technical Information Management, CDC Procurement and Grants Office, 2920 Brandywine Road, Atlanta, GA 30341-4146, Telephone: 770-488-2700.

For technical questions about this program, contact: Mary Lerchen, Extramural Program Official, Centers for Disease Control and Prevention, National Center for Infectious Diseases, 1600 Clifton Road, NE., Mailstop C-19, Atlanta, GA 30333.

Dated: April 15, 2004.
William P. Nichols,
Acting Director, Procurement and Grants Office, Centers for Disease Control and Prevention.

[FR Doc. 04-9107 Filed 4-21-04; 8:45 am]

BILLING CODE 4163-18-P